ENVIRONMENTAL PROTECTION AGENCY

40 CFR Part 52

[EPA-R01-OAR-2017-0025; FRL-9964-26-Region 1]

Air Plan Approval; Rhode Island; Reasonably Available Control Technology for US Watercraft, LLC

AGENCY: Environmental Protection Agency (EPA).

ACTION: Direct final rule.

SUMMARY: The Environmental Protection Agency (EPA) is approving a State Implementation Plan (SIP) revision submitted by the State of Rhode Island. The revision consists of a reasonably available control technology (RACT) approval for a volatile organic compound (VOC) emission source in Rhode Island, specifically, US Watercraft, LLC. This action is being taken in accordance with the Clean Air Act.

DATES: This direct final rule will be effective September 1, 2017, unless EPA receives adverse comments by August 2, 2017. If adverse comments are received, EPA will publish a timely withdrawal of the direct final rule in the Federal Register informing the public that the rule will not take effect.

ADDRESSES: Submit your comments, identified by Docket ID No. EPA-R01-OAR-2017-0025 at https://www.regulations.gov, or via email to Mackintosh.David@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, cloud, or other file sharing system). For additional submission methods, please contact the person identified in the For Further Information Contact section. For the full EPA public comment policy, information about CBI or multimedia submissions, and general guidance on making effective comments, please visit https://www.epa.gov/dockets/commenting-epa-dockets.

FOR FURTHER INFORMATION CONTACT: David L. Mackintosh, Air Quality Planning Unit, U.S. Environmental Protection Agency, EPA New England Regional Office, 5 Post Office Square—Suite 100, (Mail code OEP05-2), Boston, MA 02109-3912, tel. 617-918-1584, email Mackintosh.David@epa.gov.

SUPPLEMENTARY INFORMATION: Throughout this document whenever “we,” “us,” or “our” is used, we mean EPA.

Table of Contents

I. Background and Purpose

II. Description and Evaluation of the State's Submittal

III. Final Action

IV. Incorporation by Reference

V. Statutory and Executive Order Reviews

I. Background and Purpose

Section 184(b) of the CAA requires Rhode Island to implement RACT for all major sources of VOCs and all sources covered by a Control Techniques Guideline (CTG). The Rhode Island Department of Environmental Management (RI DEM) submitted RACT Approval File No. 01-05-AP as a SIP revision for incorporation into the Rhode Island SIP. RACT Approval File No. 01-05-AP was originally issued to TPI Composites Incorporated (currently owned and operated by US Watercraft, LLC) in Warren, Rhode Island. The RACT Approval was received by EPA on August 8, 2003, and amended shortly thereafter. The amendment was received by EPA on February 20, 2004.

II. Description and Evaluation of the State's Submittal

US Watercraft, LLC is located at 373 Market Street, Warren, Rhode Island, and operates two fiberglass process areas that emit VOCs: Fiberglass production; and Research and Development (R&D). The RI DEM RACT Approval replaced the requirements in the original 1990 RACT Consent Agreement, File No. 90-1-AP, which EPA approved on August 31, 1990 (55 FR 35623). RI DEM issued the updated RACT Approval for this facility to reflect technological advances in the fiberglass manufacturing industry as well as to correct and clarify requirements contained in the consent agreement. The RACT Approval control strategy was revised to include the Seemann Composite Resin Infusion Molding Process (SCRIMP), a closed molding process, and VOC limitations on gel coats and resins used to limit VOC emissions from the operations performed at the facility. In addition, the updated Approval provides for enhanced recordkeeping to track VOC emissions from the facility. Specifically, the submitted amendment to the RACT Approval restricts US Watercraft when applying vinyl ester resin to using the closed molding process or using a roller, except that US Watercraft may apply vinyl ester resin by spray layup for corrosion proof laminate, as is the case with the consent agreement currently in the SIP. Additionally, the updated RACT Approval prohibits the use of VOC solvents for cleanup, whereas the consent agreement currently in Rhode Island's SIP allows solvents containing VOCs to be used on a limited basis for cleaning activities. Since the RACT Approval and its amendment are no less stringent than the previously-approved consent agreement, and in some instances are more stringent, the anti-back sliding requirements of section 110(l) of the CAA are met. Therefore, EPA is approving the new RACT Approval and amendment for US Watercraft, LLC.

It should be noted that subsequent to RI DEM's submittal of its SIP revision and amendment for US Watercraft in 2003 and 2004, respectively, EPA later issued a Control Techniques Guidelines (CTG) for Fiberglass Boat Manufacturing Materials on October 7, 2008 (73 FR 58481). RI DEM has not yet addressed this CTG. On February 3, 2017 (82 FR 9158), EPA issued a Findings of Failure to Submit State Implementation Plan Submittals for the 2008 Ozone National Ambient Air Quality Standards for Rhode Island's failure to submit a SIP revision to satisfy the 2008 CTG for Fiberglass Boat Manufacturing Materials.

At this time, EPA is taking no action with regard to Rhode Island's obligation to address the 2008 CTG for Fiberglass Boat Manufacturing Materials since Rhode Island has not yet taken formal action to address this CTG. In this action, we are approving the revised RACT Approval for US Watercraft as meeting the section 110(l) anti-back sliding requirement of the CAA and incorporating it into the SIP as SIP-strengthening. Rhode Island is still obligated to submit a formal SIP revision to EPA detailing how the state is addressing the Fiberglass Boat Manufacturing Materials CTG for any and all sources in the state covered by that CTG.

III. Final Action

EPA is approving, and incorporating into the Rhode Island SIP, a RACT Approval effective July 16, 2003, and a RACT Approval amendment effective February 11, 2004, for US Watercraft, LLC (formerly known as TPI Composites or Tillotson-Pearson). EPA is also removing the previously approved consent agreement for this facility from the Rhode Island SIP.

The EPA is publishing this action without prior proposal because the Agency views this as a noncontroversial amendment and anticipates no adverse comments. However, in the proposed rules section of this Federal Register publication, EPA is publishing a separate document that will serve as the proposal to approve the SIP revision should relevant adverse comments be filed. This rule will be effective September 1, 2017 without further notice unless the Agency receives relevant adverse comments by August 2, 2017.

If the EPA receives such comments, then EPA will publish a notice withdrawing the final rule and informing the public that the rule will not take effect. All public comments received will then be addressed in a subsequent final rule based on the proposed rule. The EPA will not institute a second comment period on the proposed rule. All parties interested in commenting on the proposed rule should do so at this time. If no such comments are received, the public is advised that this rule will be effective on September 1, 2017 and no further action will be taken on the proposed rule. Please note that if EPA receives adverse comment on an amendment, paragraph, or section of this rule and if that provision may be severed from the remainder of the rule, EPA may adopt as final those provisions of the rule that are not the subject of an adverse comment.

IV. Incorporation by Reference

In this rule, the EPA is finalizing regulatory text that includes incorporation by reference. In accordance with requirements of 1 CFR 51.5, the EPA is finalizing the incorporation by reference of the RACT Approval for US Watercraft, LLC described in the amendments to 40 CFR part 52 set forth below. The EPA has made, and will continue to make, these materials generally available through https://www.regulations.gov, and/or at the EPA Region 1 Office (please contact the person identified in the For Further Information Contact section of this preamble for more information).

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: Rules of particular applicability; rules relating to agency management or personnel; and rules of agency organization, procedure, or practice that do not substantially affect the rights or obligations of non-agency parties. 5 U.S.C. 804(3). Because this is a rule of particular applicability, EPA is not required to submit a rule report regarding this action under section 801.

Under section 307(b)(1) of the Clean Air Act, petitions for judicial review of this action must be filed in the United States Court of Appeals for the appropriate circuit by September 1, 2017. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: June 7, 2017.
Deborah A. Szaro,
Acting Regional Administrator, EPA New England.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart OO—Rhode Island

2. In § 52.2070 in the table in paragraph (d), remove the entry “Tillotson-Pearson in Warren, Rhode Island”; and add the entry for “US Watercraft, LLC in Warren, Rhode Island” to the end of the table to read as follows:

§ 52.2070 Identification of plan.

* * * * *

(d) EPA-approved State Source specific requirements.

EPA-Approved Rhode Island Source Specific Requirements
Name of source | Permit No. | State effective date | EPA approval date | Explanations
* * * * * * *
US Watercraft, LLC in Warren, Rhode Island | File No. 01-05-AP | 7/16/2003 and 2/11/2004 | 7/3/2017, [Insert Federal Register citation] | VOC RACT Approval and Amendment.

[FR Doc. 2017-13907 Filed 6-30-17; 8:45 am]

BILLING CODE 6560-50-P